DEPARTMENT OF ENERGY

Federal Energy Regulatory Commission

Combined Notice of Filings #1

Take notice that the Commission received the following electric corporate filings:

Docket Numbers: EC12-136-000.

Applicants: PacifiCorp.

Description: Application of PacifiCorp for Approval of Acquisition of Jurisdictional Assets from Brigham City Corporation.

Filed Date: 8/22/12.

Accession Number: 20120822-5125.

Comments Due: 5 p.m. ET 9/12/12.

Take notice that the Commission received the following electric rate filings:

Docket Numbers: ER10-3069-003; ER10-3070-003.

Applicants: Alcoa Power Generating, Inc., Alcoa Power Marketing LLC.

Description: Alcoa Power Generating Inc., et al. submits supplement to Updated Market Power Analysis.

Filed Date: 8/23/12.

Accession Number: 20120823-5025.

Comments Due: 5 p.m. ET 9/13/12.

Docket Numbers: ER11-4267-001; ER11-4270-001; ER11-4269-001; ER11-4268-001; ER11-113-001.

Applicants: Algonquin Northern Maine Gen Co., Algonquin Tinker Gen Co., Algonquin Energy Services Inc., Granite State Electric Company, Sandy Ridge Wind, LLC, Algonquin Windsor Locks LLC.

Description: Algonquin Energy Services Inc., et al. submits supplement to Notice of Change in Status.

Filed Date: 8/22/12.

Accession Number: 20120822-5130.

Comments Due: 5 p.m. ET 9/12/12.

Docket Numbers: ER12-1266-003.

Applicants: Midwest Independent Transmission System Operator, Inc.

Description: 8-20-12 745 Compliance to be effective 6/12/2012.

Filed Date: 8/21/12.

Accession Number: 20120821-5137.

Comments Due: 5 p.m. ET 9/11/12.

Docket Numbers: ER12-1457-003.

Applicants: Southern California Edison Company.

Description: GIA and Service Agreement with San Gorgonio Farms, Inc. to be effective 3/23/2012.

Filed Date: 8/23/12.

Accession Number: 20120823-5000.

Comments Due: 5 p.m. ET 9/13/12.

Docket Numbers: ER12-2502-000.

Applicants: PacifiCorp.

Description: Deseret ARTSOA Rev 5 to be effective 10/22/2012.

Filed Date: 8/22/12.

Accession Number: 20120822-5062.

Comments Due: 5 p.m. ET 9/12/12.

Docket Numbers: ER12-2503-000.

Applicants: PJM Interconnection, L.L.C.

Description: Queue No. X2-076; Second Revised Service Agreement Nos. 3154 and 3155 to be effective 7/23/2012.

Filed Date: 8/22/12.

Accession Number: 20120822-5102.

Comments Due: 5 p.m. ET 9/12/12.

Docket Numbers: ER12-2504-000.

Applicants: Westar Energy, Inc.

Description: Notice of Cancellation of certain designated Rate Schedules to be effective 6/15/2011.

Filed Date: 8/21/12.

Accession Number: 20120821-5136.

Comments Due: 5 p.m. ET 9/11/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 23, 2012.
Nathaniel J. Davis, Sr.,
Deputy Secretary.

[FR Doc. 2012-21517 Filed 8-30-12; 8:45 am]

BILLING CODE 6717-01-P